DEPARTMENT OF LABOR

Employment and Training Administration

[TA-W-37,713]

Vinson Timber Products, Inc., A/K/A Trout Creek Lumber Products, Trout Creek, MT; Amended Certification Regarding Eligibility To Apply for Worker Adjustment Assistance

In accordance with Section 223 of the Trade Act of 1974 (19 USC 2273) the Department of Labor issued a Certification of Eligibility to Apply for Worker Adjustment Assistance on July 21, 2000, applicable to workers of Vinson Timber Products, Inc., Trout Creek, Montana. The notice will be published soon in the Federal Register.

At the request of the State agency, the Department reviewed the certification for workers of the subject firm. The workers are engaged in the production of dimension lumber (studs and 5/4 lumber). Findings show that workers separated from employment at Vinson Timber Products, Inc. had their wages reported under a separate unemployment insurance (UI) tax account for Trout Creek Lumber Products, Trout Creek Montana.

The intent of the Department's certification is to include all workers of Vinson Timber Products, Inc. who were adversely affected by increased imports. Accordingly, the Department is amending the certification to reflect this matter.

The amended notice applicable to TA-W-37,713 is hereby issued as follows:

All workers of Vinson Timber Products, Inc., also known as Trout Creek Lumber Products, Trout Creek, Montana who became totally or partially separated from employment on or after May 12, 1999 through July 21, 2002 are eligible to apply for adjustment assistance under Section 223 of the Trade Act of 1974.

Signed at Washington, DC this 23rd day of August, 2000.
Edward A. Tomchick,
Director, Division of Trade Adjustment Assistance.

[FR Doc. 00-23936 Filed 9-15-00; 8:45 am]

BILLING CODE 4510-30-M